DEPARTMENT OF THE INTERIOR

Bureau of Land Management

[17X.LLNML00000.L11100000.DF0000. LXSSG0860000]

Notice of Public Meeting, Las Cruces District Resource Advisory Council Meeting, New Mexico

AGENCY: Bureau of Land Management, Interior.

ACTION: Notice of public meeting.

SUMMARY: In accordance with the Federal Land Policy and Management Act and the Federal Advisory Committee Act, the Bureau of Land Management's (BLM), Las Cruces District Resource Advisory Council (RAC) will meet as indicated below.

DATES: On January 24, 2017, the RAC will participate in a field trip to the Organ Mountains-Desert Peaks National Monument. The field trip will begin at 8:00 a.m. from the District Office, 1800 Marquess Street, Las Cruces, New Mexico, and conclude at 5:00 p.m. that afternoon. During the field trip, the RAC will be introduced to the public land resources in the Potrillo Mountains. On January 25, from 9:00 a.m. to 12:00 p.m., the RAC will meet at the Ramada Hotel and Conference Center, 201 East University, Las Cruces, New Mexico. Both the field trip and meeting are open to the public. However, the public is required to provide its own transportation for the field trip. In addition, the public may send written comments to the RAC at the BLM Las Cruces District Office, 1800 Marquess Street, Las Cruces, NM 88001.

FOR FURTHER INFORMATION CONTACT: Deborah Stevens, BLM Las Cruces District, 1800 Marquess Street, Las Cruces, NM 88001, 575-525-4421. Persons who use a telecommunications device for the deaf (TDD) may call the Federal Relay Service (FRS) at 1-800-877-8229, to contact the above individual during normal business hours. The FRS is available 24 hours a day, 7 days a week, to leave a message or question with the above individual. You will receive a reply during normal business hours.

SUPPLEMENTARY INFORMATION: The 10-member Las Cruces District RAC advises the Secretary of the Interior, through the BLM, on a variety of planning and management issues associated with public land management in New Mexico.

Planned agenda items include updates on current and proposed projects in the Las Cruces District including lands/realty, planning and energy projects.

A half-hour public comment period will begin at 11:00 a.m., during which the public may address the Council. Depending on the number of individuals wishing to comment and time available, oral comments may be limited.

Debby Lucero,
Acting Deputy State Director, Lands and Resources.

[FR Doc. 2016-31872 Filed 1-3-17; 8:45 am]

BILLING CODE 4310-FB-P